FEDERAL EMERGENCY MANAGEMENT AGENCY

Notice of the State Management of Public Assistance Operations in Small Disasters

AGENCY: Federal Emergency Management Agency (FEMA).

ACTION: Notice.

SUMMARY: We (FEMA) give notice that we will devolve major management responsibility of the Public Assistance Program in small disasters to interested States with demonstrated capability beginning on or after the date this notice is published. Interested Indian Tribal Governments, which are acting as their own Grantee, are also invited to participate in this program. We award Public Assistance grants, which supplement community assets in the recovery of State, tribal, local and certain eligible private non-profit infrastructure when the President declares an emergency or major disaster. The change in the program management does not constitute a change to the process by which assistance is provided nor does it constitute a change in benefits under the law or regulation.

DATES: This notice is effective July 13, 2001. We invite comments on this initiative, particularly on the criteria for State selection. Comments received by September 11, 2001 will be considered when making future program revisions.

FOR FURTHER INFORMATION CONTACT: James A. Walke, P.E., Public Assistance Branch Chief, Federal Emergency Management Agency, Washington DC 20472, 202-646-2751 (phone), 202-646-3304 (fax), or James.Walke@fema.gov (e-mail).

SUPPLEMENTARY INFORMATION: The Robert T. Stafford Disaster Relief and Emergency Assistance Act, 42 U.S.C. 5121, provides for the award of grants to assist in the repair and reconstruction of community infrastructure. In April 2000, we convened a task force of FEMA and State officials to explore the option of allowing capable States to manage the Public Assistance Program in small disasters. The purpose of this initiative is to streamline disaster operations and enhance States' program capabilities. This initiative does not change eligibility requirements or the amount of assistance available. Small disasters are those with sufficient severity and magnitude to warrant a major disaster declaration by the President, but are limited in scope and size as defined by the following: statewide infrastructure damage is less than $2 per capita; or, total estimated infrastructure damage is less than $15 million; or, categories of work are limited to debris removal and emergency protective measures; or, the Public Assistance operation is within a State's capability to manage (varies by State). The task force developed a concept of operations, a sample operational agreement, a list of FEMA and State roles and responsibilities, and a list of frequently asked questions to guide program implementation.

Participation in the State Management of Small Disasters program is voluntary. If a State is interested in managing a disaster, it must specify this in the Governor's request for a disaster declaration. FEMA will determine whether a State is capable of managing a disaster. Interested States should have recent Federal disaster experience, adequate staff, a current management plan, an adequate fiscal accounting system, the ability to meet deadlines for grant management activities, environmental knowledge and awareness, and a commitment to training. FEMA regional offices and States should work together before a disaster to determine capability and ensure that States meet selection criteria. When a State elects to manage the disaster and FEMA determines that the State is capable, FEMA and the affected State will enter into an operational agreement. The operational agreement defines the roles and responsibilities of the State and FEMA as well as the processes and procedures in effect under the agreement.

Under this initiative, a capable State provides staff to manage the Public Assistance Program operation, including project eligibility reviews, process control, and resource allocation on small disasters. We will provide a minimum number of FEMA staff to support the operation, which will include: Federal Coordinating Officer (FCO), Public Assistance Officer (PAO), Deputy PAO, data entry specialist, and environmental specialist. We will retain obligation authority, final approval of environmental and historic preservation reviews, and will help the State to the extent that the State requests such assistance. FEMA and the State will conduct on-going quality control checks of a sample of Project Worksheets to ensure accurate eligibility decisions, scopes of work, and cost estimates.

In July 2000, FEMA published a Federal Register Notice regarding the program and plans for a field test. Subsequently, the concept was pilot-tested in three selected disasters that were declared in November 2000 (FEMA-1344-DR-FL), January 2001 (FEMA-1347-DR-AZ), and February 2001 (FEMA-1349-DR-OK). A FEMA/State team evaluated the Public Assistance recovery operation in each of these disasters to determine the success of the pilot program. The teams found that the State Management of Small Disasters concept and its implementation in the field were successful and identified additional refinements before full program implementation. The teams cited the necessity of adhering to State selection criteria and providing training to State personnel as two important keys to the program's success.

* * * * *

Dated: July 6, 2001.
Lacy E. Suiter,
Assistant Director, Readiness, Response, and Recovery Directorate.

[FR Doc. 01-17533 Filed 7-12-01; 8:45 am]

BILLING CODE 6718-01-P